DEPARTMENT OF ENERGY

Federal Energy Regulatory Commission

[Docket No. RP01-245-007]

Transcontinental Gas Pipe Line Corporation; Notice of Compliance Filing

January 28, 2002.

Take notice that on January 18, 2002 Transcontinental Gas Pipe Line Corporation (Transco) tendered for filing as part of its FERC Gas Tariff, Third Revised Volume No. 1, certain revised tariff sheets which are enumerated in Appendix A attached to the filing, to be effective December 1, 2001.

Transco states that the purpose of the limited Section 4 filing is to submit revised tariff sheets and supporting workpapers in compliance with Ordering Paragraph (B) of the Commission's Order on Rehearing issued December 19, 2001 in Docket No. RP01-245, et.al. The December 19th order directed Transco to file within 30 days its issuance revised tariff sheets to be effective December 1, 2001, containing rates which have been revised to reflect the removal of the cost of the North Padre Island facilities which were abandoned and transferred by Transco pursuant to the authorizations granted in Docket Nos. CP01-34-000, et.al. Specifically, the rates and workpapers reflect a decrease in the Operation and Maintenance Expenses, overall Cost of Service, and Rate Base; and changes in the gross and net plant allocation percentages and Dt-miles used in the calculation of the rates.

Transco states that included in Appendix B attached to the filing are the workpapers supporting the cost of the North Padre Island facilities being removed from Transco's rates. Appendix C contains workpapers supporting the Dt Miles used in the design and Appendix D contains workpapers supporting the overall cost allocation and rate design underlying the proposed rates.

Transco states that copies of the filing are being mailed to affected customers and interested State Commissions.

Any person desiring to protest said filing should file a protest with the Federal Energy Regulatory Commission, 888 First Street, NE., Washington, DC 20426, in accordance with section 385.211 of the Commission's rules and regulations. All such protests must be filed in accordance with section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

C. B. Spencer,
Acting Secretary.

[FR Doc. 02-2478 Filed 1-31-02; 8:45 am]

BILLING CODE 6717-01-P